DEPARTMENT OF EDUCATION

National Board for Education Sciences

AGENCY: Department of Education, Institute of Education Sciences.

ACTION: Notice of an open meeting with a closed session.

SUMMARY: This notice sets forth the schedule and proposed agenda of an upcoming meeting of the National Board for Education Sciences. The notice also describes the functions of the Committee. Notice of this meeting is required by Section 10(a)(2) of the Federal Advisory Committee Act and is intended to notify the public of their opportunity to attend the open portion of the meeting. The public is being given less than 15 days' notice due to the need to accommodate the members' schedules.

DATES: November 1, 2010

TIMES: Open session: 8:30 a.m. to 4 p.m. The meeting will be closed from 4 p.m. to 4:45 p.m. for the election of a Chair and Vice Chair.

ADDRESSES: 80 F Street, NW., Room 100, Washington, DC 20208.

FOR FURTHER INFORMATION CONTACT: Mary Grace Lucier, Designated Federal Official, National Board for Education Sciences, 555 New Jersey Ave., NW., Room 602 I, Washington, DC 20208; phone: (202) 219-2253; fax: (202) 219-1466; e-mail: Mary.Grace.Lucier@ed.gov.

Individuals who use a telecommunications device for the deaf (TDD) may call the Federal Information Relay Service (FRS) at 1-800-877-8339.

SUPPLEMENTARY INFORMATION: The National Board for Education Sciences is authorized by Section 116 of the Education Sciences Reform Act of 2002(ESRAa0, 20 U.S.C 9516. The Board advises the Director of the Institute of Education Sciences (IES) on, among other things, the establishment of activities to be supported by the Institute, on the funding for applications for grants, contracts, and cooperative agreements for research after the completion of peer review, and reviews and evaluates the work of the Institute.

At this time, the Board consists of ten of fifteen appointed members due to the expirations of the terms of former members. The Board shall meet and can carry out official business because the ESRA states that a majority of the voting members serving at the time of a meeting constitutes a quorum.

On November 1, 2010, starting at 8:30 a.m. the Board will approve the agenda and hear remarks from the chair, followed by further remarks from John Easton, IES director. The Board is expected to consider and approve priorities proposed by the director to guide the work of the Institute. A break will take place from 9:45 a.m. to 10 a.m. A presentation on the Privacy Technical Assistance Center will take place from 10 a.m. to 11 a.m., followed by an overview of the proposed agenda for the Regional Educational Laboratories program.

The meeting will break for lunch from 12 noon to 1:15 p.m., following which there will be a presentation and discussion of state of the art approaches to research implementation. A discussion of recently released IES reports will be held from 2:30 p.m. until 4 p.m. The meeting will close to the public from 4 p.m. to 4:45 p.m. for the election of Chair and Vice Chair. The new officers will have a brief opportunity to address the membership about their vision for the Board's role for the next two years, and adjournment is expected at 5 p.m.

A final agenda will be available from Mary Grace Lucier (see contact information above) on October 25 and will be posted on the Board Web site http://ies.ed.gov/director/board/agendas/index.asp. Individuals who will need accommodations for a disability in order to attend the meeting (e.g., interpreting services, assistance listening devices, or materials in alternative format) should notify Mary Grace Lucier no later than October 20. We will attempt to meet requests for accommodations after this date but cannot guarantee their availability. The meeting site is accessible to individuals with disabilities.

Records are kept of all Committee proceedings and are available for public inspection at 555 New Jersey Ave., NW., Room 602 K, Washington, DC 20208, from the hours of 9 a.m. to 5 p.m., Eastern Standard Time Monday through Friday.

Electronic Access to This Document: You may view this document, as well as all other documents of this Department published in the Federal Register, in text or Adobe Portable Document Format (PDF) on the Internet at the following site: http://www.ed.gov/news/fed-register/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: October 19, 2010.
John Q. Easton,
Director, Institute of Education Sciences.

[FR Doc. 2010-26782 Filed 10-21-10; 8:45 am]

BILLING CODE 4000-01-P